COMMITTEE FOR PURCHASE FROM PEOPLE WHO ARE BLIND OR SEVERELY DISABLED

Procurement List: Proposed Additions and Deletions

AGENCY: Committee for Purchase From People Who Are Blind or Severely Disabled.

ACTION: Proposed Additions To and Deletions From the Procurement List.

SUMMARY: The Committee is proposing to add to the Procurement List products and services to be furnished by nonprofit agencies employing persons who are blind or have other severe disabilities, and to delete products previously furnished by such agencies.

Comments Must Be Received On or Before: 5/10/2010.

ADDRESSES: Committee for Purchase From People Who Are Blind or Severely Disabled, Jefferson Plaza 2, Suite 10800, 1421 Jefferson Davis Highway, Arlington, Virginia 22202-3259.

For Further Information or To Submit Comments Contact: Patricia Briscoe, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Gloves, Impact

NSN: 8415-01-498-4968—Extra-Extra-Large, Black

NSN: 8415-01-498-4966—Extra-Large, Black

NSN: 8415-01-498-8180—Large, Black

NSN: 8415-01-498-4964—Medium, Black

NSN: 8415-01-497-7265—Small, Black

NPA: South Texas Lighthouse for the Blind, Corpus Christi, TX

Contracting Activity: Department of Veterans Affairs, NAC, Hines, IL

Coverage: C-List for the government requirements for the Department of Veterans Affairs, NAC, Hines, IL.

NSN: 7520-00-NIB-2101—Pen Set, Rosewood (Army Strong)

NSN: 7520-00-NIB-2102—Pen Set, Rosewood (Reserve)

NPA: Industries for the Blind, Inc., West Allis, WI

Contracting Activity: Dept of the Army, XR W6BB ACA Knox, Fort Knox, KY

Coverage: C-List for the government requirements for the Department of the Army, Fort Knox, KY.

Wooden Trunk Locker

NSN: 8460-00-243-3234

NPA: Employment Source, Inc., Fayetteville, NC

Contracting Activity: Defense Logistics Agency, Defense Supply Center Philadelphia, Philadelphia, PA

Coverage: C-List for 50% of the government requirements for the Defense Supply Center Philadelphia, Philadelphia, PA.

Label, Pressure Sensitive Recycled Copier

NSN: 7530-00-NIB-0902

NSN: 7530-01-207-4363

NSN: 7530-01-086-4518

NPA: North Central Sight Services, Inc., Williamsport, PA

Portfolio, Double Pocket

NSN: 7510-01-411-7000

NPA: Susquehanna Association for the Blind and Visually Impaired, Lancaster, PA.

Contracting Activity: Federal Acquisition Service, GSA/FSS OFC SUP Ctr—Paper Products, New York, NY.

Coverage: A-List for the total government requirement as aggregated by the General Services Administration.

Services

Service Type/Location: Basewide Custodial Services Camp Bullis, TX.

NPA: Professional Contract Services, Inc., Austin, TX.

Contracting Activity: Dept of the Army, XR W6BB ACA Sam Houston, Fort Sam Houston, TX.

Service Type/Location: Administrative Services, 426 5th Avenue, Sheppard AFB, TX.

NPA: Work Services Corporation, Wichita Falls, TX.

Contracting Activity: Dept of the Air Force, FA3020 82 CONS LGC, Sheppard AFB, TX.

Service Type/Location: Custodial Services, Boise Air Traffic Control Tower, Boise, ID.

NPA: Western Idaho Training Company, Caldwell, ID.

Contracting Activity: Department of Transportation/Federal Aviation Admin, Northwest/Mountain REG, LOG. DIV (ANM-55), Renton, WA.

Service Type/Location: Janitorial Services, Corp of Engineers Buildings, Elmendorf AFB, AK, Corp of Engineers Buildings, Fort Richardson, AK.

NPA: MQC Enterprises, Inc., Anchorage, AK.

Contracting Activity: XR W2SN ENDIST Alaska, Dept of Defense, Dept of the Army, Anchorage, AK.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Scarf, Branch of Service

NSN: 8455-00-916-8398

NPA: UNKNOWN

Contracting Activity: Defense Supply Center Philadelphia, Philadelphia, PA.

Solvent, Correction Fluid

NSN: 7510-01-333-6241

NPA: Lighthouse for the Blind, St. Louis, MO

Contracting Activity: Federal Acquisition Service, GSA/FSS OFC SUP Ctr—Paper Products, New York, NY.

Patricia Briscoe,
Deputy Director, Business Operations.

[FR Doc. 2010-8095 Filed 4-8-10; 8:45 am]

BILLING CODE 6353-01-P